DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Cross-Site Evaluation of Safe Schools/Healthy Students (SS/HS) Initiative Grants—In Use Without Approval

The Safe Schools/Healthy Students (SS/HS) Initiative is a collaborative grant program supported by three Federal departments—the U.S. Departments of Health and Human Services, Education, and Justice. The program is authorized under the Elementary and Secondary Education Act of 1965, as amended, and the Higher Education Act of 1965, Title IV, Part A, Subpart 2 (National Programs), Section 4121 (Federal Activities), and 42U.S.C., Section 290hh (Children and Violence).

This initiative, instituted by Congress following the murderous assaults at Columbine High School in Colorado, is designed to provide Local Educational Agencies (LEAs), including school districts and multidistrict regional consortia, with funding to simultaneously improve school safety, improve student access to mental health services, reduce violence and substance use, and strengthen both school relationships with the larger community and early childhood preparation for learning. Collectively, Congress expects these changes to be reflected in improved school climate.

Local Education Agencies (LEAs) serve as the primary applicants for SS/HS grants, in partnership with the local mental health system, the local law enforcement agency, and the local juvenile justice agency. Other community partners often involved in these grants include public and private social services agencies, businesses, civic organizations, the faith community, and private citizens. As a result of these partnerships, comprehensive plans are developed, implemented, evaluated, and sustained with the goals of promoting the healthy development of children and youth, fostering their resilience in the face of adversity, and preventing violence.

From FY-1999 through FY-2004, grants of $1 million to $3 million annually for 3 years were awarded to 190 LEAs, for a total of $916 million. In FY-2005, 40 new SS/HS grants were awarded; in FY-2006, an additional 19 grants were awarded; and in FY-2007, an additional 27 grants will be awarded. These grants are providing support for rural, tribal, suburban, and urban communities that include diverse racial and ethnic groups across the country.

In compliance with the Government Performance and Results Act (GPRA) of 1993, grantees are required to collect and report data that measure the results of the programs implemented with this grant. Specifically, grantees are required to collect and report information on the following GPRA indicators:

1. The percentage of SS/HS grant sites that experience a decrease in the number of violent incidents at schools.

2. The percentage of SS/HS grant sites that experience a decrease in substance use.

3. The percentage of SS/HS grant sites that improve school attendance.

4. The percentage of SS/HS grant sites that increase mental health services to students and families.

As authorized by 42 U.S.C. 290hh, item (f), SAMHSA has begun a national evaluation of the Safe School/Healthy Students (SS/HS) projects. In addition to GPRA measures, a Federal Evaluation Work Group of the national evaluation, comprising Federal officials representing the U.S. Departments of Education, and Health and Human Services, has determined that information is also required to address four overarching questions:

1. Do conditions and resources in the pre-grant environment facilitate or impede the implementation of the SS/HS Initiative at both the local education agency (LEA) and school levels?

2. Do SS/HS activities lead to the intended system changes (comprehensive policies, enhanced services, and improved coordination)?

3. Do system changes (near-term outcomes) associated with the SS/HS Initiative lead to improvements in long-term outcomes (reduction in substance use and violence, increased access to mental health services, and improvement in attendance and school climate)?

4. Overall, does the SS/HS Initiative meet the Federal Government's expectations of achieving improvements in long-term outcomes (reduction in substance use and violence, increased access to mental health services, and improvement in attendance and school climate)?

The SS/HS National Evaluation Team (NET) proposes seven (7) data collection instruments for use with various audiences and at various times to provide systematic, rigorous answers to these questions. These instruments are listed below and discussed:

1. A Year 1 Site Visit protocol.

2. Project-Level Survey.

3. School-Level Survey.

4. Staff School Climate Survey.

5. Group Interview.

6. Project Director Interview.

7. Partnership Inventory.

With the exception of the Staff School Climate Survey, these instruments are currently in use without approval.

1. Year 1 Site Visit Protocol. The NET will conduct a Year 1 site visit to all SS/HS grantees in their first year of funding. The Year 1 Site Visit is designed to clarify and expand upon information presented in the grant application. The Site Visit Guide includes a set of questions for each of five general topical areas:

1. Planning for the SS/HS project.

2. Current status of project implementation.

3. Enhancing interagency services.

4. Update on the SS/HS school-community partnership structure, composition, and functioning including the current status of required partners (i.e., education, mental health, law enforcement, and juvenile justice).

5. Local evaluation status.

2. Project-Level Survey is to be administered annually to collect project-level information provided by the local project director, in consultation with the local evaluator and other key staff. This Web-based instrument will (1) collect data and project level assessments on technical assistance and near-term outcomes, and (2) collect data and project-level assessments on the penetration of SS/HS-related activities among the targeted population(s) and on the sustainability of the activities beyond the grant period. The survey contains 114 multiple-choice questions covering seven topical areas:

1. The relationship between the local education agency (LEA) and schools.

2. Technical assistance and training.

3. Comprehensive policies and interventions.

4. Evidence-based interventions.

5. Enhanced service integration.

6. Improved coordination.

7. Sustainability.

This survey will generate standardized cross-site measures for the required data.

3. School-Level Survey, also administered annually, is a Web-based survey completed by the SS/HS coordinator at each school, identified by the local project director. Its main purpose is to collect information describing system changes at the level of the individual schools included in the grant (e.g., involvement of the grant partners in activities and adoption of comprehensive safety policies at the school level).

This instrument contains 131 multiple-choice questions covering two main areas: (1) Organizational structure, characteristics and activities; and (2) the school's emphasis on and student participation in activities and programs. The School-Level Survey is designed specifically to provide an indicator as to whether and how project-level SS/HS-related policies are consistently diffused to the individual schools.

Prior to fielding Project-Level and School-Level Surveys, an e-mail and/or letter will be sent to project directors and SS/HS school coordinators to explain the purpose of the survey and provide information on how to complete the surveys. The e-mail and/or letter will provide names, e-mail addresses, telephone numbers, and fax numbers for the NET contact(s) to ensure respondents have appropriate contact information if they have questions or need to clarify survey-related questions. The e-mail and/or letter will also explain the options available for completing and returning the survey (Web-based, paper, and electronic).

Designated NET staff responsible for the two surveys will call or e-mail the respondents after distribution to ensure responses are received in a timely fashion. The NET also plans additional follow-up efforts to track any respondents who fail to submit their completed surveys after the initial follow-up.

4. Staff School Climate Survey is planned as an annual survey to be completed by all staff at each school participating in the SS/HS program. Administration and scoring will be conducted via an existing infrastructure that allows immediate access to the results at school, district, and aggregate levels for use by local and NET evaluators. The major purposes of this survey are:

1. Assess changes in school climate at the project level.

2. Identify the extent of variation in school climate among the target schools of each project.

3. Provide a basis for comparison of changes in the individual dimensions of school climate.

4. Provide added value to LEAs by helping them meet Federal legislative requirements for assessing staff perceptions of the incidence, prevalence, and attitudes related to substance use and violence in their schools.

Although GPRA measures monitor changes in individual outcomes among students, GPRA measures have been found to provide an incomplete metric of performance in terms of observed changes in overall “school climate.” The SS/HS National Evaluation Team proposes to adopt the staff version of the California Healthy Kids Survey for this purpose. This instrument contains 43 multiple-choice questions that are used to obtain school staff perceptions of student behavior and attitudes, school programs and policies, and the overall school climate as they relate to student well-being and learning. The survey deals with such issues as truancy, safety, harassment, substance use, school connectedness, and learning supports. The instrument will track changes in school climate in schools targeted for program services under the SS/HS Initiative. In the absence of the Staff School Climate Survey, there would be no common, cross-site measure of performance across SS/HS initiative grantees. In practice, the Staff School Climate Survey will be administered electronically among approximately 106,000 local educational system employees. These employees will be encouraged to log onto a Web site during each year that their school benefits from the grant to answer questions concerning their perception of student behavior and safety at the school.

5. Group Interview will assess the status of the following:

1. Implementation of planned activities.

2. The status of the SS/HS school-community partnership.

3. Progress towards enhancing interagency services.

4. The status of the local evaluation.

Information will be gathered from a larger group of key informants than during the Year 1 site visits. In addition to the project director, key informants will include the local evaluator, required partners from each site, and representatives from other local organizations (e.g., alcohol and drug prevention or treatment agencies, after-school programs, early childhood programs). The NET will consult with Federal Project Officers and the local project directors in deciding which partners/organizations will serve as key informants in the telephone interviews. The intent is to conduct these group interviews as a semistructured exchange among participants, guided by topics and issues raised by the NET moderator.

6. Project Director Interview of the local SS/HS site will follow the group interview. These structured interviews will be used primarily to assess each partner's contribution to the core elements of collaborative functioning. The project director interview will be conducted twice for each SS/HS grant, following the group telephone interviews of partnership members in the spring of Years 2 and 3 of the grant. The interviews will be structured around 11 topics, designed to gather information that will be used to:

1. Update program status.

2. Discuss strategies and activities the sites intend to implement.

3. Explore key partners' involvement in the project.

4. Investigate the role of the community partnership in the local project.

5. Secure information regarding the site's perspective on the impact of the SS/HS project on students, families, and the community.

6. Assess collaborative functioning.

This information will be used to refine project classifications, examine changes in the number and types of evidence-based practices being implemented, and document the number and type of new service structures or systems sites plan to implement through the grant.

A NET site liaison will conduct the Project Director interview by telephone. This interview contains a total of 31 questions, focusing on 10 core areas of collaborative functioning. Three subset questions focus on the contribution rating of the partnership, examples to support that rating, and the level of contribution of each required partner. A final question assesses the overall contribution of each of the partners to the SS/HS project.

7. The Partnership Inventory is a 32-item self-completion questionnaire e-mailed to designated representatives of local partnering organizations. Its purpose is to obtain a subjective assessment of perceptions of operating characteristics of the partnership process through Likert-type scaling. The first 16 items ask respondents to give their opinions about how the SS/HS partnership is functioning in their community. Items 17-26 focus on the contributions the respondent's organization has made to the collaborative functions related to SS/HS planning and implementation. The final six questions focus on interactions among the participating members of the collaboration, asking how often and how intensely the various organizations work together.

The annualized burden estimates are below:

Data collection instrument | Number of respondents | Responses per respondent | Average hours per response | Total annual burden (hours)
Site Visit Protocol | 425 | 1 | 3 | 1,275
Project-Level Survey | 85 | 1 | 0.75 | 64
School-Level Survey | 2,500 | 1 | 0.75 | 1,875
Staff School Climate Survey | 106,250 | 1 | 0.117 | 12,431
Group Interview | 425 | 1 | 1.5 | 638
Project Director Interview | 85 | 1 | 0.75 | 64
Partnership Inventory | 340 | 1 | 0.25 | 85
Total | 106,675 |  |  | 16,431

Send comments to Summer King, SAMHSA Reports Clearance Officer, Room 7-1044, One Choke Cherry Road, Rockville, MD 20857 and e-mail her a copy at summer.king@samhsa.hhs.gov. Written comments should be received within 60 days of this notice.

Dated: September 24, 2007.
Elaine Parry,
Acting Director, Office of Program Services.

[FR Doc. E7-19303 Filed 9-28-07; 8:45 am]

BILLING CODE 4162-20-P